DEPARTMENT OF COMMERCE

International Trade Administration

[Application No. 92-14A001]

Export Trade Certificate of Review

ACTION: Notice of Application to amend the Export Trade Certificate of Review issued to Aerospace Industries Association of America, Inc., Application No. 92-14A001.

SUMMARY: The Office of Trade and Economic Analysis (“OTEA”) of the International Trade Administration, Department of Commerce, received an application to amend an Export Trade Certificate of Review (“Certificate”). This notice summarizes the proposed amendment and requests comments relevant to whether the amended Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 92-14A001.”

The Aerospace Industries Association of America Inc. (“AIA”) original Certificate was issued on September 8, 1992 (57 FR 41920, September 14, 1992). A summary of the current application for an amendment follows.

Summary of the Application

Applicant: AIA, 1000 Wilson Boulevard, Suite 1700, Arlington, VA 22209.

Contact: Matthew F. Hall, General Counsel, Telephone: (202) 862-9700.

Application No.: 92-14A001.

Date Deemed Submitted: April 4, 2018.

Proposed Amendment: AIA seeks to amend its Certificate to:

1. Add the following companies as new Members of the Certificate within the meaning of section 325.2(l) of the Regulations (15 CFR 325.2(l)):

• ACUTRONIC USA, Inc.; Pittsburgh, PA (controlling entity ACUTRONIC Holding AG; Bubikon, Switzerland)

• ADI American Distributors LLC; Randolph, NJ

• Advanced Logistics for Aerospace (ALA); New York, NY (controlling entity ALA SpA; Naples, Italy)

• Aernnova Aerospace; Ann Arbor, MI (controlling entity Aernnova Aerospace; Miñano, Spain)

• Aero Metals Alliance Inc.; Northbrook, IL (controlling entity Aero Metals Alliance; Surrey, UK)

• AeroVironment, Inc.; Monrovia, CA

• AlixPartners, LLP; New York, NY

• Alta Devices, Inc.; Sunnyvale, CA (controlling entity Hanergy Holding Group Ltd.; Beijing, China)

• Altitude Industries, LLC; Overland Park, KS

• Amazon.com, Inc.; Seattle, WA

• American Metal Bearing Company; Garden Grove, CA (controlling entity Marisco, Ltd.; Kapolei, HI)

• Athena Manufacturing, LP; Austin, TX

• Boom Technology, Inc.; Denver, CO

• BRPH Architects Engineers, Inc.; Melbourne, FL

• Burns & McDonnell Engineering Corporation, Inc.; Kansas City, MO

• BWX Technologies, Inc.; Lynchburg, VA

• Cytec Engineered Materials, Inc.; Tempe, AZ (controlling entity Solvay Group; Brussels, Belgium)

• Delta Flight Products; Atlanta, GA (controlling entity Delta Air Lines, Inc.; Atlanta, GA)

• EPTAM Plastics; Northfield, NH

• Garmin International, Inc.; Olathe, KS (controlling entity Garmin Ltd.; Schaffhausen, Switzerland)

• General Atomics Aeronautical Systems, Inc.; Poway, CA (controlling entity General Atomics; San Diego, CA)

• Google LLC; Mountain View, CA (controlling entity Alphabet Inc.; Mountain View, CA)

• GSE Dynamics, Inc.; Hauppauge, NY

• Information Services Group, Inc.; Stamford, CT

• Integral Aerospace, LLC; Santa Ana, CA

• ITT Inc.; White Plains, NY

• Job Performance Associates, LLC; Jacksonville, FL

• JR Industries, Inc.; Westlake Village, CA

• ManTech International Corporation; Fairfax, VA

• Mercury Systems, Inc.; Andover, MA

• Net-Inspect, LLC; Kirkland, WA

• New England Airfoil Products, Inc.; Farmington, CT

• Nokia US; Murray Hill, NJ (controlling entity Nokia Corporation; Espoo, Finland)

• Norsk Titanium US Inc.; Plattsburgh, NY (controlling entity Norsk Titanium AS; Hønefoss, Norway)

• Omega Aerial Refueling Services, Inc.; Alexandria, VA

• Orbital ATK, Inc.; Dulles, VA

• Pegasus Steel, LLC; Goose Creek, SC

• PrecisionHawk Inc.; Raleigh, NC

• Primus Aerospace; Lakewood, CO

• PTC Inc.; Needham, MA

• Range Generation Next LLC; Sterling, VA (controlling entities Raytheon Company; Waltham, MA and General Dynamics IT; Fairfax, VA)

• Special Aerospace Services, LLC; Boulder, CO

• SupplyOn North America, Inc.; San Diego, CA (controlling entity SupplyOn AG; Hallbergmoos, Germany)

• The Aerospace Corporation, Civil Systems Group; El Segundo, CA (controlling entity The Aerospace Corporation; El Segundo, CA)

• The Lundquist Group LLC; New York, NY

• Tribus Aerospace Corporation; Poway, CA

• TT Electronics; Perry, OH (controlling entity TT Electronics plc; Woking, UK)

• Unitech Aerospace; Hayden, ID

2. Delete the following companies as Members of AIA's Certificate:

• Accurus Aerospace Corporation, LLC

• Aerospace Exports Incorporated

• AirMap

• Ascent Manufacturing, Inc.

• Aurora Flight Sciences Corporation

• Barnes Group Inc.

• C4 Associates, Inc.

• Camcode Division of Horizons, Inc.

• Castle Metals

• CDI Corporation

• Curtiss-Wright Corporation

• Cytec Industries, Inc.

• FLIR Systems, Inc.

• Fluor Corporation, Inc.

• HP Enterprise Services—Aerospace

• J Anthony Group, LLC

• Lavi Systems, Inc.

• LMI Aerospace, Inc.

• Micro-Coax, Inc.

• NYLOK, LLC

• Oxford Performance Materials

• Park-Ohio Holdings Corp

• SCB Training, Inc.

• Seal Science, Inc.

• SIFCO Industries, Inc.

• SITA

• Spacecraft Components Corporation

• Sunflower Systems

• United Parcel Services of America, Inc.

• Verizon Enterprise Solutions, Inc.

• Vogelhood

3. Change in name or address for the following Members:

• Acutec Precision Machining, Inc. of Saegertown, PA is now named Acutec Precision Aerospace, Inc. of Meadville, PA.

• Alcoa Defense of Crystal City, VA is now named Arconic Inc. of New York, NY.

• Computer Sciences Corporation of Falls Church, VA is now named DXC Technology Company of Tysons Corner, VA.

AIA's proposed amendment of its Export Trade Certificate of Review would result in the following membership list:

• 3M Company; St. Paul, MN

• AAR Corp.; Wood Dale, IL

• Accenture; Chicago, IL

• Acutec Precision Aerospace, Inc.; Meadville, PA

• ACUTRONIC USA, Inc.; Pittsburgh, PA

• ADI American Distributors LLC; Randolph, NJ

• Advanced Logistics for Aerospace (ALA); New York, NY

• Aerion Corporation; Reno, NV

• Aernnova Aerospace; Ann Arbor, MI

• Aerojet Rocketdyne; Rancho Cordova, CA

• Aero-Mark, LLC; Ontario, CA

• Aero Metals Alliance, Inc.; Northbrook, IL

• AeroVironment, Inc.; Monrovia, CA

• AGC Aerospace & Defense; Oklahoma City, OK

• Aireon LLC; McLean, VA

• AlixPartners, LLP; New York, NY

• Allied Telesis, Inc.; Bothell, WA

• Alta Devices, Inc.; Sunnyvale, CA

• Altitude Industries, LLC; Overland Park, KS

• Amazon.com, Inc.; Seattle, WA

• American Metal Bearing Company; Garden Grove, CA

• American Pacific Corporation; Las Vegas, NV

• Analytical Graphics, Inc.; Exton, PA

• Apex International Management Company; Daytona Beach, FL

• Arconic Inc.; New York, NY

• Astronautics Corporation of America; Milwaukee, WI

• Astronics Corporation, East Aurora, NY

• Athena Manufacturing, LP; Austin, TX

• AUSCO, Inc.; Port Washington, NY

• Avascent; Washington, DC

• B&E Group, LLC; Southwick, MA

• BAE Systems, Inc.; Rockville, MD

• Ball Aerospace & Technologies Corp.; Boulder, CO

• Belcan Corporation; Cincinnati, OH

• Benchmark Electronics, Inc.; Angleton, TX

• Bombardier; Montreal, Canada

• Boom Technology, Inc.; Denver, CO

• Boston Consulting Group; Boston, MA

• BRPH Architects Engineers, Inc.; Melbourne, FL

• Burns & McDonnell Engineering Corporation, Inc.; Kansas City, MO

• BWX Technologies, Inc.; Lynchburg, VA

• CADENAS PARTsolutions, LLC; Cincinnati, OH

• CAE USA; Tampa, FL

• Capgemini; New York, NY

• Celestica Inc.; Toronto, Canada

• Click Bond, Inc.; Carson City, NV

• Cobham; Arlington, VA

• CPI Aerostructures, Inc.; Edgewood, NY

• Crane Aerospace & Electronics; Lynnwood, WA

• Cubic Corporation, Inc.; San Diego, CA

• Cyient Ltd.; East Hartford, CT

• Cytec Engineered Materials, Inc., Tempe, AZ

• Deloitte Consulting LLP; New York, NY

• Delta Flight Products; Atlanta, GA

• Denison Industries, Inc.; Denison, TX

• Ducommun Incorporated; Carson, CA

• DuPont Company; New Castle, DE

• DXC Technology Company, Tysons Corner, VA

• Eaton Corporation; Cleveland, OH

• Elbit Systems of America, LLC; Fort Worth, TX

• Embraer Aircraft Holding Inc.; Fort Lauderdale, FL

• EPS Corporation; Tinton Falls, NJ

• EPTAM Plastics; Northfield, NH

• Ernst & Young LLP; New York, NY

• Esterline Technologies; Bellevue, WA

• Exostar LLC; Herndon, VA

• Facebook, Inc.; Menlo Park, CA

• Flextronics International USA; San Jose, CA

• Flight Safety International Inc.; Flushing, NY

• FS Precision Tech, Co. LLC; Compton, CA

• FTG Circuits, Inc.; Chatsworth, CA

• Garmin International, Inc.; Olathe, KS

• General Atomics Aeronautical Systems, Inc.; Poway, CA

• General Dynamics Corporation; Falls Church, VA

• General Electric Aviation; Cincinnati, OH

• GKN Aerospace North America; Irving, TX

• Google, LLC; Mountain View, CA

• GSE Dynamics, Inc.; Hauppauge, NY

• Harris Corporation; Melbourne, FL

• HCL America Inc.; Sunnyvale, CA

• HEICO Corporation; Hollywood, FL

• Hexcel Corporation; Stamford, CT

• Honeywell Aerospace; Phoenix, AZ

• Huntington Ingalls Industries, Inc.; Newport News, VA

• IBM Corporation; Armonk, NY

• Information Services Group, Inc.; Stamford, CT

• Integral Aerospace, LLC; Santa Ana, CA

• Iron Mountain, Inc.; Boston, MA

• ITT Inc.; White Plains, NY

• Jabil Defense & Aerospace Services LLC; St. Petersburg, FL

• Job Performance Associates, LLC; Jacksonville, FL

• JR Industries, Inc.; Westlake Village, CA

• Kaman Aerospace Corporation; Bloomfield, CT

• KPMG LLP; New York, NY

• Kratos Defense & Security Solutions, Inc.; San Diego, CA

• L-3 Communications Corporation; New York, NY

• LAI International, Inc.; Scottsdale, AZ

• Leidos, Inc.; Reston, VA

• Lockheed Martin Corporation; Bethesda, MD

• Lord Corporation; Cary, NC

• LS Technologies, LLC; Fairfax, VA

• Mantech International Corporation; Fairfax, VA

• Marotta Controls, Inc.; Montville, NJ

• Meggitt-USA, Inc.; Simi, CA

• Mercury Systems, Inc.; Andover, MA

• Microsemi Corporation; Aliso Viejo, CA

• Momentum Aviation Group; Woodbridge, VA

• MOOG Inc.; East Aurora, NY

• MTorres Americas; Bothell, WA

• National Technical Systems, Inc.; Calabasas, CA

• NEO Tech.; Chatsworth, CA

• Net-Inspect, LLC; Kirkland, WA

• New England Airfoil Products, Inc.; Farmington, CT

• Nokia US; Murray Hill, NJ

• Norsk Titanium US Inc.; Plattsburgh, NY

• Northrop Grumman Corporation; Los Angeles, CA

• Omega Aerial Refueling Services, Inc.; Alexandria, VA

• O'Neil & Associates, Inc.; Miamisburg, OH

• Orbital ATK, Inc.; Dulles, VA

• Pacific Design Technologies; Goleta, CA

• Parker Aerospace; Irvine, CA

• Pegasus Steel, LLC; Goose Creek, SC

• Plexus Corporation; Neenah, WI

• PPG Aerospace-Sierracin Corporation; Sylmar, CA

• PrecisionHawk Inc.; Raleigh, NC

• Primus Aerospace; Lakewood, CO

• Primus Technologies Corporation; Williamsport, PA

• PTC Inc.; Needham, MA

• PWC Aerospace & Defense Advisory Services; McLean, VA

• Range Generation Next LLC; Sterling, VA

• Raytheon Company; Waltham, MA

• Rhinestahl Corporation; Mason, OH

• Rix Industries; Benecia, CA

• Rockwell Collins; Cedar Rapids, IA

• Rolls-Royce North America Inc.; Reston, VA

• salesforce.com, inc.; San Francisco, CA

• SAP America, Inc.; Newtown Square, PA

• Securitas Critical Infrastructure Services, Inc.; Springfield, VA

• Siemens PLM Software; Plano, TX

• Sierra Nevada Corporation, Space Systems; Littleton, CO

• Sparton Corporation; Schaumburg, IL

• Special Aerospace Services, LLC; Boulder, CO

• Spirit AeroSystems; Wichita, KS

• SupplyOn North America, Inc.; San Diego, CA

• Tech Manufacturing, LLC; Wright City, MO

• Textron Inc.; Providence, RI

• The Aerospace Corporation, Civil Systems Group; El Segundo, CA

• The Boeing Company; Chicago, IL

• The Lundquist Group LLC

• The NORDAM Group, Inc.; Tulsa, OK

• The Padina Group, Inc.; Lancaster, PA

• Therm, Incorporated; Ithaca, NY

• Tip Technologies; Waukesha, WI

• Tribus Aerospace Corporation; Poway, CA

• TriMas Aerospace; Los Angeles, CA

• Triumph Group, Inc.; Wayne, PA

• TT Electronics; Perry, OH

• Universal Protection Services; Santa Ana, CA

• Unitech Aerospace; Hayden, ID

• United Technologies Corporation; Hartford, CT

• Verify, Inc.; Irvine, CA

• Virgin Galactic, LLC; Las Cruces, NM

• Wesco Aircraft Hardware Corporation; Valencia, CA

• Woodward, Inc.; Fort Collins, CO

• Xerox; Norwalk, CT

Dated: April 16, 2018.
Joseph Flynn,
Director, Office of Trade and Economic Analysis, International Trade Administration.

[FR Doc. 2018-08404 Filed 4-20-18; 8:45 am]

BILLING CODE 3510-DR-P